DEPARTMENT OF TRANSPORTATION

Surface Transportation Board

[STB Finance Docket No. 34338]

Metro Regional Transit Authority—Acquisition Exemption—Certain Assets of Akron Barberton Cluster Railway Company

Metro Regional Transit Authority (METRO),¹ a regional transit authority, has filed a notice of exemption under 49 CFR 1150.31, et seq., to acquire from Akron Barberton Cluster Railway Company (ABC) certain assets of a line of railroad extending between approximately milepost 11.49 in Akron, OH, and approximately milepost 8.00 in Cuyahoga Falls, OH, a distance of approximately 3.49 miles in Summit County, OH. ABC will retain an exclusive freight railroad operations easement on the subject line.

¹ METRO indicates that it will file a motion to dismiss its notice of exemption in this case to obtain a jurisdictional determination regarding its prospective common carrier status with respect to the line. That motion will be addressed in a subsequent decision.

The transaction was scheduled to be consummated on or after April 21, 2003 (7 days after the notice was filed).

If the notice contains false or misleading information, the exemption is void ab initio. Petitions to revoke the exemption under 49 U.S.C. 10502(d) may be filed at any time. The filing of a petition to revoke does not automatically stay the transaction.

An original and 10 copies of all pleadings, referring to STB Finance Docket No. 34338, must be filed with the Surface Transportation Board, 1925 K Street, NW., Washington, DC 20423-0001. In addition, a copy of each pleading must be served on Edward J. Fishman, Esq., Kirkpatrick & Lockhart LLP, 1800 Massachusetts Avenue, Second Floor., Washington, DC 20036, and John M. Coyne, III, Esq., Roetzel & Andress, 222 South Main Street, Akron, OH 44308.

Board decisions and notices are available on our website at http://www.stb.dot.gov.

Decided: April 30, 2003.
By the Board, David M. Konschnik, Director, Office of Proceedings.
Vernon A. Williams,
Secretary.

[FR Doc. 03-11309 Filed 5-7-03; 8:45 am]

BILLING CODE 4915-00-P